DEPARTMENT OF HOMELAND SECURITY

[Docket No. DHS-2022-0009]

Homeland Security Academic Advisory Council

AGENCY: Office of Partnership and Engagement (OPE), Department of Homeland Security (DHS).

ACTION: Request for applicants for appointment to the Homeland Security Academic Advisory Council (HSAAC).

SUMMARY: The Secretary of Homeland Security (Secretary) is requesting senior-level individuals who are interested in serving on the Homeland Security Academic Advisory Council (HSAAC), a discretionary federal advisory committee, to apply for appointment as identified in this notice. Pursuant to the Secretary's authority within the Homeland Security Act, this agency-led committee will be established and will operate under the provisions of the Federal Advisory Committee Act (FACA). The primary purpose of the HSAAC will be to provide advice and recommendations to the Secretary and DHS senior leadership on matters related to homeland security and the academic community.

DATES: Resume and category of interest will be accepted until 11:59 p.m. Eastern Standard Time on February 15, 2022.

ADDRESSES: Due to COVID-19 safety precautions, mailed applications will not be accepted. The sole method of submission is via email to DHSAcademic@hq.dhs.gov.

FOR FURTHER INFORMATION CONTACT: Acting Executive Director Traci Silas via email at DHSAcademic@hq.dhs.gov or via phone at 202-603-1142.

SUPPLEMENTARY INFORMATION: In addition to this notice, DHS may solicit members through correspondence with its existing contact list of faith-based organizations, Congressional partners, and White House staff.

Members of the HSAAC are appointed by the Secretary for specified terms of appointment. The HSAAC membership selection and appointment process is designed to ensure continuity of HSAAC membership, and to afford the Secretary the advisory input of the most capable, diverse, and novel perspectives that the country has to offer. Individuals who are interested in serving on the committee are invited to apply for consideration for appointment. There is no application form; however, a current resume and category of interest is required. The appointment will be for a term of up to 3 years. Individuals selected for the appointment will serve as Representatives or regular government employees (where applicable). All non-federal members must also complete a background investigation, a gratuitous service agreement and a non-disclosure agreement.

HSAAC will meet as often as needed to fulfill its mission, but typically four times each fiscal year to address its objectives and duties. The committee will aim to meet in person at least once each fiscal year with additional meetings held via teleconference. HSAAC members may be reimbursed for travel and per diem incurred in the performance of their duties as members of the committee. All travel for HSAAC business must be approved in advance by the Designated Federal Officer. To the extent practical, members can serve on any subcommittee that is established.

DHS does not discriminate in employment on the basis of race, color, religion, sex, national origin, political affiliation, sexual orientation, gender identity, marital status, disability and genetic information, age, membership in an employee organization, or other non-merit factor. DHS strives to achieve a diverse candidate pool for all its recruitment actions.

The HSAAC will consist of up to 30 members who are appointed by and serve at the pleasure of the Secretary. In order for the Secretary to fully leverage broad-ranging experience and education, the HSAAC must be diverse with regard to professional and technical expertise. DHS is committed to pursuing opportunities, consistent with applicable law, to compose a committee that reflects the diversity of the nation's people. Members are appointed as representative members, except that members from federal agencies are appointed as non-voting ex-officio members. To ensure a diverse, inclusive and balanced membership, membership includes the following:

(a) Up to four members representing higher education associations

(b) Up to two members representing higher education law enforcement, public safety, and emergency management associations

(c) Up to two members representing four-year colleges and universities

(d) Up to two members representing two-year community colleges

(e) Up to two members representing Historically Black Colleges and Universities (HBCUs)

(f) Up to two members representing Hispanic serving institutions

(g) Up to two members representing Tribal colleges

(h) Up to two members representing the Asian American, Native American and Pacific Islander serving institutions

(i) Up to four members representing K-12 school systems, to include schools, school systems, and state educational agencies

(j) Up to two members representing Education Employee Associations/Labor Organizations

(k) Up to one member from the DHS Science and Technology Center of Excellence

(l) Up to one member from Cybersecurity and Infrastructure Security Agency (CISA) School Safety Task Force

(m) Up to one member from the DHS Center for Prevention Programs and Partnership

(n) Up to one member from US Secret Service National Threat Assessment Center

(o) Up to one member from Federal Emergency Management Agency (FEMA) higher education initiatives

(p) Up to one member from the DHS Office for Civil Right and Civil Liberties (CRCL)

(q) Up to one member from the Department of Education

(r) Up to one member from the Department of State

(s) Up to one member from the Department of Justice

(t) Up to one member from the Department of Health and Human Services

HSAAC is the sole advisory committee and public forum within DHS providing advice on matters relating to DHS's engagement with the academic community.

Zarinah T. Silas,
Acting Executive Director and Acting Designated Federal Officer.

[FR Doc. 2022-01839 Filed 1-28-22; 8:45 am]

BILLING CODE 9112-FN-P